DEPARTMENT OF HOMELAND SECURITY

I&A Customer Survey

AGENCY: Office of Intelligence and Analysis, DHS.

ACTION: 30-Day notice and request for comments; New information collection request, 1601-NEW.

SUMMARY: The Department of Homeland Security, Office of Intelligence and Analysis will submit the following information collection request (ICR) to the Office of Management and Budget (OMB) for review and clearance in accordance with the Paperwork Reduction Act of 1995 (Pub. L. 104-13, 44 U.S.C. Chapter 35). The Office of Intelligence and Analysis is soliciting comments concerning the I&A Customer Survey, which is a new collection. DHS previously published this information collection request (ICR) in the Federal Register on September 25, 2009 at 74 FR 48994, for a 60-day public comment period. No comments were received by DHS. The purpose of this notice is to allow an additional 30 days for public comments.

DATES: Comments are encouraged and will be accepted until January 14, 2010. This process is conducted in accordance with 5 CFR 1320.10.

ADDRESSES: Interested persons are invited to submit written comments on the proposed information collection to the Office of Information and Regulatory Affairs, Office of Management and Budget. Comments should be addressed to OMB Desk Officer, Department of Homeland Security and sent via electronic mail to oira_submission@omb.eop.gov or faxed to 202-395-5806.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: The Department of Homeland Security (DHS), Office of Intelligence and Analysis, Jason Clark, 202-447-3140.

SUPPLEMENTARY INFORMATION: The Implementing Recommendations of the 9/11 Commission act of 2007 (Pub. L. 110-53) identifies the U/SIA as having the primary Federal responsibility for outreach and sharing threat related information and intelligence with State, local and tribal officials (S&L). Section 511 of the 9/11 Act with regards to consumer feedback requires I&A to create a voluntary mechanism for any State, local, tribal law enforcement officer or other emergency response provider who is a consumer of the intelligence or other information products of I&A to provide feedback to the Department on the quality and utility of such intelligence products. This is a new collection for a pilot program. I&A Managers will use the survey results to determine which members of our S&L target audience are accessing our products, to generally gauge product effectiveness and relevance to the S&L mission, and to make improvements to intelligence products that increase customer satisfaction and program effectiveness. The results of the customer satisfaction surveys will be shared with DHS HQ, I&A, and as mandated by section 511 of the 9/11 Act, presented to the Committee on Homeland Security and Governmental Affairs of the Senate and the Committee on Homeland Security of the House of Representatives.

Analysis

Agency: Department of Homeland Security, Office of Intelligence and Analysis.

Title: I&A Customer Survey.

OMB Number: 1601-NEW.

Frequency: Annually.

Affected Public: State, Local or Tribal Government.

Number of Respondents: 144.

Estimated Number of Responses per Respondent: 25.

Estimated Time per Respondent: 2 minutes.

Total Burden Hours: 120 annual burden hours.

Dated: December 8, 2009.
Richard A. Spires,
Chief Information Officer.

[FR Doc. E9-29743 Filed 12-14-09; 8:45 am]

BILLING CODE 9110-9N-P